GENERAL SERVICES ADMINISTRATION

[Notice MC-2011-2; Docket No. 2011-0006; Sequence 5]

The President's Management Advisory Board (PMAB); Notification of Upcoming Public Advisory Meeting

AGENCY: Office of Executive Councils, U.S. General Services Administration (GSA).

ACTION: Meeting Notice.

SUMMARY: The President's Management Advisory Board, a Federal Advisory Committee established in accordance with the Federal Advisory Committee Act (FACA), 5 U.S.C., App., and Executive Order 13538, will hold a public meeting on June 17, 2011.

DATES: Effective date: May 23, 2011.

Meeting date: The meeting will be held on Friday, June 17, 2011, beginning at 9:30 a.m. eastern time, ending no later than 1 p.m.

Addresses and Meeting Access: The PMAB will convene its meeting in the Eisenhower Executive Office Building, 1650 Pennsylvania Avenue, NW., Washington, DC. Due to security, there will be no public admittance to the Eisenhower Building to attend the meeting. However, public access to the meeting will be available via live webcast at http://www.whitehouse.gov/live.

FOR FURTHER INFORMATION CONTACT: Mr. Stephen Brockelman, Designated Federal Officer, President's Management Advisory Board, Office of Executive Councils, General Services Administration, 1776 G Street NW., Washington, DC 20006, at stephen.brockelman@cxo.gov.

SUPPLEMENTARY INFORMATION:

Agenda: The main purpose of this meeting is for the two PMAB subcommittees to discuss their work to date and receive feedback from the full PMAB. The subcommittees are examining Information Technology Management in the Federal Government, and Senior Executive Service (SES) Development and Management, for the purpose of identifying leading business practices that have the potential to improve government performance in these areas. On the PMAB Web site, a detailed meeting agenda will be available by June 16; in addition, the meeting transcript will be available after the meeting at: http://www.whitehouse.gov/administration/advisory-boards/pmab Information regarding changes to the agenda can be obtained from this Web site or by contacting the identified DFO. In view of the possibility that the starting time scheduled for the PMAB meeting may be adjusted, persons planning to view via webcast should check with the above Web site for time changes if such rescheduling would result in an inconvenience.

Background: The PMAB was established to provide independent advice and recommendations to the President and the President's Management Council on a wide range of issues related to the development of effective strategies for the implementation of best business practices to improve Federal Government management and operation, with a particular focus on productivity and the application of technology.

Availability of Materials for the Meeting: Please see the PMAB Web site for any available materials at http://www.whitehouse.gov/administration/advisory-boards/pmab.

Procedures for Providing Public Comments: In general, public statements will be posted on the White House Web site (http://www.whitehouse.gov/administration/advisory-boards/pmab), Non-electronic documents will be made available for public inspection and copying in PMAB offices at GSA, 1776 G Street NW., Washington, DC 20006, on official business days between the hours of 10 a.m. and 5 p.m. eastern time. You can make an appointment to inspect statements by telephoning (202) 501-1398. All statements, including attachments and other supporting materials, received are part of the public record and subject to public disclosure. Any statements submitted in connection with the PMAB meeting will be made available to the public under the provisions of the Federal Advisory Committee Act.

The public is invited to submit written statements for this meeting to the Advisory Committee prior to the meeting until June 16, 2011, by either of the following methods:

Electronic Statements: Submit written statements to Stephen Brockelman, Designated Federal Officer at stephen.brockelman@cxo.gov; or

Paper Statements: Send paper statements in triplicate to Stephen Brockelman at President's Management Advisory Board, Office of Executive Councils, General Services Administration, 1776 G Street, NW., Washington, DC 20006.

Dated: May 16, 2011.
Robert Flaak,
Director, Office of Committee and Regulatory Management, General Services Administration.

[FR Doc. 2011-12647 Filed 5-20-11; 8:45 am]

BILLING CODE 6820-BR-P